DEPARTMENT OF AGRICULTURE

Food and Nutrition Service

7 CFR Parts 251, 271, 272, and 277

[FNS-2016-0028]

RIN 0584-AE44

Supplemental Nutrition Assistance Program Promotion; Correction

AGENCY: Food and Nutrition Service (FNS), USDA.

ACTION: Proposed rule; correction.

SUMMARY: This document contains a correction to the proposed rule published in the Federal Register on March 14, 2016, “Supplemental Nutrition Assistance Program Promotion.” The Food and Nutrition Service published a proposed rule in the Federal Register, 81 FR 13290, on March 14, 2016, to implement section 4018 of the Agricultural Act of 2014. Section 4018 created new limitations on the use of federal funds authorized in the Food and Nutrition Act of 2008 (FNA), for the Supplemental Nutrition Assistance Program (SNAP) promotion and outreach activities. The summary of the proposed rule is being corrected to aid in clarity to the reader.

DATES: To be assured of consideration, written comments must be received on or before May 13, 2016.

FOR FURTHER INFORMATION CONTACT: Mary Rose Conroy, Branch Chief, Program Development Division, Program Design Branch, Food and Nutrition Services, U.S. Department of Agriculture, 3101 Park Center Drive, Room 810, Alexandria, VA 22302, or by phone at (703) 305-2803, or by email at Maryrose.conroy@fns.usda.gov.

Correction

In proposed rule FR Doc. 2016-05583, beginning on page 13290 in the issue of March 14, 2016, make the following correction in the Summary section. On page 13290 the Summary section is revised to read as follows:

SUMMARY: This proposed rule would implement Section 4018 of the Agricultural Act of 2014. Section 4018 created new limitations on the use of federal funds authorized in the Food and Nutrition Act of 2008 (FNA), for the Supplemental Nutrition Assistance Program (SNAP) promotion and outreach activities. Specifically, Section 4018 of the 2014 Farm Bill prohibits the use of Federal funds appropriated in the FNA from being used for recruitment activities designed to persuade an individual to apply for SNAP benefits; television, radio, or billboard advertisements that are designed to promote SNAP benefits and enrollment; or agreements with foreign governments designed to promote SNAP benefits and enrollment. The prohibition on using funds appropriated under the FNA for television, radio, or billboard advertisements does not apply to Disaster SNAP.

Section 4018 also prohibits any entity that receives funds under the FNA from compensating any person engaged in outreach or recruitment activities based on the number of individuals who apply to receive SNAP benefits. Lastly, Section 4018 modifies Section 16(a)(4) of the FNA to prohibit the Federal government from paying administrative costs associated with recruitment activities designed to persuade an individual to apply for program benefits or that promote the program through television, radio, or billboard advertisements.

This proposed rule would also impact the Food Distribution Program on Indian Reservations (FDPIR) and The Emergency Food Assistance Program (TEFAP), both of which receive funding and/or foods authorized under the FNA.

Dated: March 22, 2016.
Audrey Rowe,
Administrator, Food and Nutrition Service.

[FR Doc. 2016-07454 Filed 4-5-16; 8:45 am]

BILLING CODE 3410-30-P